DEPARTMENT OF ENERGY

Federal Energy Regulatory Commission

Notice of Commission Staff Attendance

The Federal Energy Regulatory Commission (Commission) hereby gives notice that members of the Commission's staff may attend the following meeting related to the transmission planning activities of the Southern Company Services, Inc.:

Southeastern Regional Transmission Planning Process (SERTP) Interim Stakeholders' Meeting on Order No. 1000

December 12, 2012, 9:00 a.m.-3:00 p.m., Local Time

The above-referenced meeting will be held at:

Georgia Transmission Corporation (GTC) Headquarters—Tucker, Georgia

The above-referenced meeting is open to stakeholders.

Further information may be found at: www.southeasternrtp.com.

The discussions at the meeting described above may address matters at issue in the following proceedings:

Docket No. ER12-337, Mississippi Power Company

For more information, contact Valerie Martin, Office of Energy Market Regulation, Federal Energy Regulatory Commission at (202) 502-6139 or Valerie.Martin@ferc.gov.

Dated: December 5, 2012.
Kimberly D. Bose,
Secretary.

[FR Doc. 2012-29850 Filed 12-10-12; 8:45 am]

BILLING CODE 6717-01-P